DEPARTMENT OF ENERGY

Federal Energy Regulatory Commission

[Docket Nos. CP18-512-000, CP18-513-000]

Corpus Christi Liquefaction Stage III, LLC; Corpus Christi Liquefaction, LLC; and Cheniere Corpus Christi Pipeline, L.P.; Notice of Schedule for Environmental Review of the Stage 3 Project

On June 28, 2018, Corpus Christi Liquefaction Stage III, LLC and Corpus Christi Liquefaction, LLC (collectively with Cheniere Corpus Christi Pipeline, L.P. referred to as Cheniere) filed an application in Docket No. CP18-512-000 requesting an authorization for siting, construction, and operation of a liquefied natural gas (LNG) export facility pursuant to Section 3(a) of the Natural Gas Act (NGA). On the same day, Cheniere Corpus Christi Pipeline, L.P. filed an application in Docket No. CP18-513-000 requesting a Certificate of Public Convenience and Necessity pursuant to Section 7(c) of the NGA to construct, operate, and maintain certain natural gas pipeline facilities. Combined, the proposed project is known as the Stage 3 Project (Project) and would provide gas and processing to produce up to 11.45 million tonnes per annum of LNG for export.

On July 12, 2018, the Federal Energy Regulatory Commission (FERC or Commission) issued its Notice of Application for the Project. Among other things, that notice alerted agencies issuing federal authorizations of the requirement to complete all necessary reviews and to reach a final decision on the request for a federal authorization within 90 days of the date of issuance of the Commission staff's Environmental Assessment (EA) for the Project. This instant notice identifies the FERC staff's planned schedule for completion of the EA for the Project. The forecasted schedule for the EA is based upon Cheniere providing complete and timely responses to any data requests. In addition, the schedule assumes that the cooperating agencies will provide input on their areas of responsibility on a timely basis.

Schedule for Environmental Review

Issuance of EA: February 8, 2019

90-Day Federal Authorization Decision Deadline: May 9, 2019

If a schedule change becomes necessary, additional notice will be provided so that the relevant agencies are kept informed of the Project's progress.

Project Description

Cheniere proposes to install seven mid-scale liquefaction trains and one new LNG storage tank expanding the previously authorized and currently under construction Corpus Christi Liquefaction Project in Nueces County, Texas. The proposed LNG facilities would be located primarily within areas previously disturbed for construction and/or operation of the Corpus Christi Liquefaction Project. Cheniere would also construct a new 21-mile-long, 42-inch-diameter natural gas pipeline from the recently completed Sinton Compressor Station (FERC Docket No. CP12-508-000) to the proposed Stage 3 liquefaction facilities, all of which would be located within Nueces County, Texas. The Project would also include the addition of two compressor units totaling approximately 44,000 horsepower at the Sinton Compressor Station. No new marine facilities would be installed as part of the Project; however, Cheniere anticipates that an annual increase of 100 LNG carriers would utilize the LNG terminal during operation of the Project.

Background

On June 9, 2015, the Commission staff granted Cheniere's request to use the FERC's pre-filing environmental review process and assigned the Stage 3 Project Docket No. PF15-26-000. On August 17, 2015, the Commission issued a Notice of Intent to Prepare an Environmental Assessment for the Planned Stage 3 Project, and Request for Comments on Environmental Issues (NOI). The NOI was issued during the pre-filing review of the Project in Docket No. PF15-26-000 and was sent to federal, state, and local government agencies; elected officials; affected landowners; environmental and public interest groups; Native American tribes and regional organizations; commenters and other interested parties; and local libraries and newspapers. In response to the NOI, the Commission received comments from the U.S. Fish and Wildlife Service, U.S. Environmental Protection Agency, Tonkawa Tribe of Oklahoma, Federal Emergency Management Agency, and Texas Parks and Wildlife Department. The primary issues raised by the commenters include effects on threatened and endangered species and vegetation, water quality impacts, greenhouse gas emissions, and cumulative impacts.

The U.S. Department of Transportation Pipeline and Hazardous Materials Administration, U.S. Coast Guard, U.S. Department of Energy, U.S. Army Corps of Engineers, U.S. Fish and Wildlife Service, and U.S. Environmental Protection Agency are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-512 and CP18-513), and follow the instructions. For assistance with access to eLibrary, the helpline can be reached at (866) 208-3676, TTY (202) 502-8659, or at FERCOnlineSupport@ferc.gov. The eLibrary link on the FERC website also provides access to the texts of formal documents issued by the Commission, such as orders, notices, and rulemakings.

Dated: August 31, 2018.
Nathaniel J. Davis, Sr.,
Deputy Secretary.

[FR Doc. 2018-19406 Filed 9-6-18; 8:45 am]

BILLING CODE 6717-01-P